DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Voting and Civic Engagement Supplements to the Current Population Survey.

OMB Control Number: 0607-0466.

Form Number(s): CPS-263 (MIS-1) (L) (8-2007), CPS-263 (MIS-5) (L) (11-2006).

Type of Request: Reinstatement, with change of an expired collection.

Burden Hours: 7,600.

Number of Respondents: 54,000.

Average Hours per Response: 8 and a half minutes.

Needs and Uses: The U.S. Census Bureau requests authorization from the Office of Management and Budget (OMB) to conduct the November 2008 Voting and Civic Engagement Supplements to the Current Population Survey (CPS). The Voting A OMB Control Number: 0607-0466.

Supplement (Voting and Registration supplement in previous years) continues the biennial collection of data concerning voting and registration that has been requested periodically since 1964. The data yield statistics on voter (and nonvoter) characteristics and current voter trends. The data will also enable policymakers to keep issues up to date, such as changes in participation in the election process by demographic characteristics such as age, sex, race, ethnicity, and educational attainment.

The Corporation for National and Community Service (CNCS) has entered into an interagency agreement with the Census Bureau to conduct the Civic Engagement supplement, which will appear for the first time in conjunction with the CPS. The civic engagement supplement will provide information on the extent to which American communities are places where individuals are civically active. It will also provide information on the number of Americans who are active in their communities, communicating with one another on issues of public concern, and interacting with public institutions and private enterprises. The information will also provide the number of Americans who engage in activities that promote positive relationships with those of equal and differing socio-economic or professional levels. This survey will be the only source of nationally representative data on such information as: level of participation in organized groups, extent of political action and knowledge, extent of connections with other community members, and how often individuals get news and information from various media sources.

When combined with demographic characteristics (age, sex, race, education, occupation, income), the data can provide information on the relationship between these characteristics and the level of civic engagement in the United States. Government agency analysts and private, state and local leaders will use this data to compare levels in their area of interest to the national level of civic engagement, and to formulate policies that foster healthy communities.

This clearance will also cover the collection in November 2010, the Voting supplement, which will consist of the voting and registration questions only.

Affected Public: Individuals or households.

Frequency: Biennially.

Respondent's Obligation: Voluntary.

Legal Authority: Title 13 U.S.C., Sections 8(b) and 182; Title 29 U.S.C., Section 1.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 6, 2008.
Gwellnar Banks,
Management Analyst, Office of the Chief Information Officer.

[FR Doc. E8-18453 Filed 8-8-08; 8:45 am]

BILLING CODE 3510-07-P